DEPARTMENT OF COMMERCE

[I.D. 083101C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southwest Region Gear Identification Requirements.

Form Number(s): None.

OMB Approval Number: 0648-0360.

Type of Request: Regular submission.

Burden Hours: 1,420.

Number of Respondents: 232.

Average Hours Per Response: 2 minutes per gearmarking.

Needs and Uses: This collection of information covers regulatory requirements for fishing gear identification under the Magnuson-Stevens Fishery Conservation and Management Act. The regulations specify that fishing gear must be marked with the vessel's official identification number. The regulations further specify how the gear is to be marked, e.g., location and visibility. Vessels in the Western Pacific pelagic longline and Northwestern Hawaiian Islands lobster fisheries are affected. This information is used for enforcement purposes, and for purposes of gear identification concerning damage, loss, and civil proceedings.

Affected Public: Business or other for-profit organizations, individuals.

Frequency: Third party disclosure.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: August 30, 2001.
Madeleine Clayton,
Departmental Paperwork Clearance Officer, Office of the Chief Information Officer.

[FR Doc. 01-22551 Filed 9-6-01; 8:45 am]

BILLING CODE 3510-22-S